DEPARTMENT OF TRANSPORTATION

Federal Aviation Administration

14 CFR Part 71

[Docket No. FAA-2015-3674; Airspace Docket No. 15-ANM-18]

Amendment of Class E Airspace; Boise, ID

AGENCY: Federal Aviation Administration (FAA), DOT.

ACTION: Final rule.

SUMMARY: This action modifies Class E surface area airspace designated as an extension to Class C airspace, and Class E airspace extending upward from 700 feet above the surface at Boise Air Terminal/Gowen Field Airport, formerly Boise Air Terminal (Gowen Field), Boise, ID. After reviewing the airspace, the FAA found standard instrument approach procedures are not fully contained in controlled airspace, thereby necessitating airspace redesign for the safety and management of Instrument Flight Rules (IFR) operations at the airport. This action also corrects the name of the airport to match the FAAs aeronautical database.

DATES: Effective 0901 UTC, March 31, 2016. The Director of the Federal Register approves this incorporation by reference action under Title 1, Code of Federal Regulations, part 51, subject to the annual revision of FAA Order 7400.9 and publication of conforming amendments.

ADDRESSES: FAA Order 7400.9Z, Airspace Designations and Reporting Points, and subsequent amendments can be viewed online at http://www.faa.gov/air_traffic/publications/. For further information, you can contact the Airspace Policy Group, Federal Aviation Administration, 800 Independence Avenue SW., Washington, DC 29591; telephone: 202-267-8783. The Order is also available for inspection at the National Archives and Records Administration (NARA). For information on the availability of FAA Order 7400.9Z at NARA, call 202-741-6030, or go to http://www.archives.gov/federal_register/code_of_federal-regulations/ibr_locations.html.

FAA Order 7400.9, Airspace Designations and Reporting Points, is published yearly and effective on September 15.

FOR FURTHER INFORMATION CONTACT: Steve Haga, Federal Aviation Administration, Operations Support Group, Western Service Center, 1601 Lind Avenue SW., Renton, WA 98057; telephone (425) 203-4563.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Boise Air Terminal/Gowen Field Airport, Boise, ID.

History

On November 13, 2015, the FAA published in the Federal Register a notice of proposed rulemaking (NPRM) to modify Class E surface area airspace designated as an extension to the Class C airspace, and Class E airspace extending upward from 700 feet above the surface at Boise Air Terminal/Gowen Field Airport, Boise, ID, (80 FR 70176). Interested parties were invited to participate in this rulemaking effort by submitting written comments on the proposal to the FAA. No comments were received.

Class E airspace designations are published in paragraph 6003 and 6005, respectively, of FAA Order 7400.9Z, dated August 6, 2015, and effective September 15, 2015, which is incorporated by reference in 14 CFR part 71.1. The Class E airspace designation listed in this document will be published subsequently in the Order.

Availability and Summary of Documents for Incorporation by Reference

This document amends FAA Order 7400.9Z, Airspace Designations and Reporting Points, dated August 6, 2015, and effective September 15, 2015. FAA Order 7400.9Z is publicly available as listed in the ADDRESSES section of this document. FAA Order 7400.9Z lists Class A, B, C, D, and E airspace areas, air traffic service routes, and reporting points.

The Rule

This amendment to Title 14, Code of Federal Regulations (14 CFR) part 71 modifies Class E airspace designated as an extension to Class C airspace, and Class E airspace extending upward from 700 feet above the surface at Boise Air Terminal/Gowen Field Airport, Boise, ID. Two segments are expanded from the 5-mile radius of the airport and extend to 12.8 miles southeast, and 11 miles northwest of the airport. Class E airspace extending upward from 700 feet above the surface at Boise Air Terminal/Gowen Field Airport is amended to accommodate standard instrument approach procedures for IFR operations at the airport. A review of the airspace found modification of the airspace necessary for the safety and management of standard instrument approach procedures for IFR operations at the airport. Also, the name of the airport is updated from Boise Air Terminal (Gowen Field), to Boise Air Terminal/Gowen Field Airport, to coincide with the FAA's aeronautical database.

Class E airspace extending upward from 700 feet above the surface is modified to within an 8.6-mile radius north of Boise Air Terminal/Gowen Field Airport, extending to 11.4 miles to the south, 17 miles to the east and 30 miles to the west.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015, and effective September 15, 2015, is amended as follows:

Paragraph 6003 Class E Airspace Areas Designated as an Extension.

* * * * *

ANM ID E3 Boise, ID [Modified]

Boise Air Terminal/Gowen Field Airport, ID

(Lat. 43°33′52″ N., long. 116°13′22″ W.)

That airspace extending upward from the surface within 5 miles each side of the Boise Air Terminal/Gowen Field Airport 114° bearing extending from the 5-mile radius of the airport to 12.8 miles southeast of the airport; and within 5 miles each side of the Boise Air Terminal/Gowen Field Airport 295° bearing extending from the 5-mile radius of the airport to 11 miles northwest of the airport.

Paragraph 6005 Class E Airspace Areas Extending Upward From 700 Feet or More Above the Surface of the Earth.

* * * * *

ANM ID E5 Boise, ID [Modified]

Boise Air Terminal/Gowen Field Airport, ID

(Lat. 43°33′52″ N., long. 116°13′22″ W.)

That airspace extending upward from 700 feet above the surface bounded by a line beginning at lat. 43°44′51″ N., long. 116°52′05″ W.; to lat. 43°52′31″ N., long. 116°38′57″ W.; to lat. 43°51′24″ N., long. 116°24′16″ W.; to lat. 43°31′33″ N., long. 115°50′14″ W.; to lat. 43°19′45″ N., long. 115°56′41″ W.; to lat. 43°25′11″ N., long. 116°32′39″ W.; to lat. 43°35′39″ N., long. 116°47′51″ W., thence to the point of beginning. That airspace extending upward from 1,200 feet above the surface within the 30.5-mile radius of the airport beginning at the 122° bearing of the airport, thence via a line to the intersection of the 34.8-mile radius of the airport and the 224° bearing of the airport, thence clockwise along the 34.8-mile radius of the airport to that airspace 7 miles each side of the 269° bearing of the airport extending from the 34.8-mile radius to 49.6 miles west of the airport, and within 7 miles northeast and 9.6 miles southwest of the 295° bearing of the airport extending from the 34.8-mile radius to 65.3 miles northwest of the airport, to lat. 44°00′27″ N., long. 117°10′58″ W., thence along the 042° bearing to V-253, thence south along V-253, thence along the 30.5-mile radius of the airport to the point of beginning. That airspace southeast of the airport extending upward from 9,000 feet MSL bounded on the north by V-444, on the east by V-293, on the south by V-330 and on the southwest by V-4. That airspace northeast of the airport extending upward from 11,500 feet MSL, bounded on the northeast by V-293, on the south by V-444, on the southwest by the 30.5-mile radius of the airport and on the west by V-253.

Issued in Seattle, Washington, on January 15, 2016.
Tracey Johnson,
Manager, Operations Support Group, Western Service Center.

[FR Doc. 2016-01501 Filed 1-27-16; 8:45 am]

BILLING CODE 4910-13-P